DEPARTMENT OF COMMERCE

International Trade Administration

EU-U.S. Privacy Shield; Invitation for Applications for Inclusion on the List of Arbitrators; Correction

AGENCY: International Trade Administration, Department of Commerce.

ACTION: Notice; correction.

SUMMARY: The Department of Commerce published a document in the Federal Register of September 7, 2017, concerning request for comments on the EU-U.S. Privacy Shield; Invitation for Applications for Inclusion on the List of Arbitrators. The document contained incorrect dates.

FOR FURTHER INFORMATION CONTACT: Requests for additional information or copies of the information collection instrument and instructions should be directed to Nasreen Djouini at the U.S. Department of Commerce, either by email at Nasreen.Djouini@trade.gov, or by fax at: 202-482-5522.

Correction

In the Federal Register of September 7, 2017, in FR Doc. 2017-18896, on pages 42294-42295, in the Method of Collection section, correct the date for the deadline of application submissions to read:

II. Method of Collection

Please submit applications by October 6, 2017 deadline to Nasreen Djouini at the U.S. Department of Commerce, either by email at Nasreen.Djouini@trade.gov, or by fax at: 202-482-5522. More information on the arbitration mechanism may be found at https://www.privacyshield.gov/article?id=ANNEX-I-introduction.

Sheleen Dumas,
Departmental PRA Lead, Office of the Chief Information Officer.

[FR Doc. 2017-19742 Filed 9-15-17; 8:45 am]

BILLING CODE 3510-DS-P